DEPARTMENT OF DEFENSE

Department of the Army

Army Educational Advisory Committee

AGENCY: U.S. Army War College.

ACTION: Notice of meeting.

SUMMARY: In accordance with section 10(a)(2) of the Federal Advisory Committee Act (5 U.S.C. App. I), announcement is made of the following Committee meeting:

Name of Committee: U.S. Army War College Subcommittee of the Army Education Advisory Committee.

Dates of Meeting: April 25, 26, 27, and 28, 2001.

Place: Root Hall, U.S. Army War College, Carlisle Barracks, Pennsylvania.

Time: 8:30 a.m.-5:00 p.m.

Proposed Agenda: Receive information briefings; conduct discussions with the Commandant and staff and faculty; table and examine online College issues; assess resident and distance education programs, self-study techniques, and plans for the Process for Accreditation of Joint Education (PAJE) 2000; assemble a working group for the concentrated review of institutional policies and a working group to address committee membership and charter issues; propose strategies and recommendations that will continue the momentum of federal accreditation success and guarantee compliance with regional accreditation standards.

FOR FURTHER INFORMATION CONTACT: To request advance approval or obtain further information, contact Lieutenant Colonel Cary A. Hilton, Box 524, U.S. Army War College, Carlisle Barracks, PA 17013 or telephone (717) 245-3396.

SUPPLEMENTARY INFORMATION: This meeting is open to the public. Any interested person may attend, appear before, or file statements with the Committee after receiving advance approval for participation. To request advance approval or obtain further information, contact Lieutenant Colonel Cary A. Hilton at the above address or phone number.

Cary A. Hilton,
Lieutenant Colonel, U.S. Army Designated Federal Official.

[FR Doc. 01-7133 Filed 3-21-01; 8:45 am]

BILLING CODE 3710-08-M